DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed new survey, “Natural Gas Processing Plant Survey”. When activated, this new survey will collect information on the status and operations of natural gas processing plants for use during periods of supply disruption in areas affected by an emergency, such as a hurricane.

DATES: Comments must be filed by April 2, 2007. If you anticipate difficulty in submitting comments within that period, contact the person listed below as soon as possible.

ADDRESSES: Send comments to Barbara Mariner-Volpe, Natural Gas Division, (EI-44), Forrestal Building, U.S. Department of Energy, Washington, DC 20585-0670. Ms. Mariner-Volpe may be contacted by telephone at (202) 586-5878, FAX at (202) 586-4420, or e-mail at Barbara.MarinerVolpe@eia.doe.gov

FOR FURTHER INFORMATION CONTACT: Requests for additional information should be directed to Barbara Mariner-Volpe at the address listed above.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. 3501, et seq.), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The proposed form, “Survey of Natural Gas Processing Plants,” will collect information from processing plant operators that will be used to monitor their operational status and assess operations of processing plants during a period when natural gas supplies are disrupted. The activation, selection of respondents, and frequency of the survey collection will be determined based on the location and severity of the supply disruption. For those processing plants whose operations have been disrupted, information about plant damage and the anticipated schedule of plant recovery will be collected. The data collected will be aggregated and used to develop measures of current processing activity and expected plant recovery in the disrupted area. The aggregate statistics will be used to inform the public, industry, and the government about the status of supply and delivery activities in the area affected by the disruption.

The proposed form, “Survey of Natural Gas Processing Plants,” will consist of two schedules: Schedule A is a “Baseline Report” and Schedule B is the “Emergency Status Report.” The Baseline Report will collect information about processing plant characteristics and operator contact information, prior to any supply disruption. The information gathered in the Baseline Report, will be used to develop the sample of companies to survey using the Emergency Status Report. It is expected that information in the “Baseline Report” would be collected once to determine the baseline processing capacities of the processing plants. Depending upon the utility of the data and the availability of alternative data sources for updating the plant capacity measures, the baseline report may be collected once every three years. The Emergency Status Report will only be implemented if there is a supply disruption.

The information reported on both schedules of the proposed form “Survey of Natural Gas Processing Plants,” will be protected and not disclosed to the public to the extent that it satisfies the criteria for exemption under the Freedom of Information Act (FOIA), 5 U.S.C. 552, the DOE regulations implementing the FOIA, 10 CFR 1004.11, and the Trade Secrets Act, 18 U.S.C. 1905. The EIA will protect the information in accordance with its confidentiality and security policies and procedures.

II. Current Actions

EIA is proposing a new, mandatory survey, “Survey of Natural Gas Processing Plants,” that will collect information from natural gas processing plants. The proposed form will consist of two schedules: Schedule A is the “Baseline Report” and Schedule B is the “Emergency Status Report.” The “Baseline Report” will collect information at least once from all natural gas processing plants about plant characteristics and operator contact information, and may continue to collect that information every three years. The “Emergency Status Report” will be a standby form that will only be activated during an energy emergency situation. EIA will notify OMB for approval prior to activating Schedule B and collecting any information. When Schedule B is activated, it is expected that the data collection on Schedule B will be temporary and the frequency of the data collection (e.g., daily or weekly) will be determined at that time based on a number of factors including the severity of the emergency and the number of plants affected.

Data will be used to monitor energy supply in the area(s) with outages to the natural gas processing plants. Respondents to Schedule B will be natural gas processing plants in the affected area(s) of the United States where a supply disruption occurred. Information collected will include: Plant characteristics and contact information, plant operation capacity and utilization (pre-event and current), plant operating constraints and plant restoration. The information may be collected by phone, fax, or e-mail, depending upon the preference of the respondent.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information To Be collected?

As a Potential Respondent to the Request for Information

A. What actions could be taken to help ensure and maximize the quality, objectivity, utility, and integrity of the information to be collected?

B. Can the information be submitted during a supply disruption? With what frequency?

C. Public reporting burden for this collection is estimated to average 0.5 hours for Schedule A and 1.5 hours for Schedule B. The estimated burden includes the total time necessary to provide the requested information. In your opinion, how accurate is this estimate?

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(j)(1) of the Paperwork Reduction Act of 1995 (Pub. L. No. 104-13).

Issued in Washington, DC, January 23, 2007.
Jay H. Casselberry,
Agency Clearance Officer, Energy Information Administration.

[FR Doc. E7-1409 Filed 1-29-07; 8:45 am]

BILLING CODE 6450-01-P